DEPARTMENT OF JUSTICE

Antitrust Division

Notice Pursuant to the National Cooperative Research and Production Act of 1993—Service Creation Community (SCC)

Notice is hereby given that, on February 4, 2003, pursuant to section 6(a) of the National Cooperative Research and Production Act of 1993, 15 U.S.C. 4301 et seq. (“the Act”), Service Creation Community (SCC) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Accenture, Dallas, TX; ADC Telecommunications, Rumson, NJ; AirFiber, San Diego, CA; American Management Systems, Fairfax, VA; Array Networks, Campbell, CA; BT, Billericay, United Kingdom; Convedia Corporation, Vancouver, British Columbia, Canada; Eureka Soft, Cedex, France; Infonautics Consulting, Inc., Ramsey, NJ; Juniper Networks, Sunnyvale, CA; Kabira Technologies, San Rafael, CA; Maranti Networks, San Jose, CA; Microsoft Corporation, Redmond, WA; Net.com, Fremont, CA; Olsen Consulting, Staten Island, NY; Oracle, St. Louis, MO; Paradyne, Largo, FL; Pingtel, Woburn, MA; Polycom Inc., Pleasanton, CA; Telechoice, Dallas, TX; Siemens, Boca Raton, FL; Tony Fisch Consulting, Los Angeles, CA; and Yipes, San Francisco, CA.

The nature and objectives of the venture are to rapidly build and deliver revenue-generating applications, content, and network services to business and residential consumers, enabling the service provider to achieve a faster return on investment.

Constance K. Robinson,
Director of Operations, Antitrust Division.

[FR Doc. 03-12217 Filed 5-15-03; 8:45 am]

BILLING CODE 4410-11-M